DEPARTMENT OF COMMERCE

Bureau of Export Administration

President's Export Council; Subcommittee on Encryption; Notice of Partially Closed Meeting

The President's Export Council Subcommittee on Encryption (PECSENC) will meet on May 16, 2000, at the U.S. Department of Commerce, Herbert C. Hoover Building, Room 4832, 14th Street between Pennsylvania and Constitution Avenues, N.W., Washington, D.C. The meeting will begin in open session at 9:30 a.m. The Subcommittee provides advice on matters pertinent to policies regarding commercial encryption products.

Open Session: 9:30 a.m.-12:00 p.m.

1. Opening remarks by the Chairman.

2. Presentation of papers or comments by the public.

3. Update on Bureau of Export Administration initiatives.

4. Issue briefings.

5. Open discussion.

Closed Session: 1:00 p.m.-2:30 p.m.

6. Discussion of matters properly classified under Executive Order 12958, dealing with the U.S. export control program and strategic criteria related thereto.

A limited number of seats will be available for the open session. Reservations are not accepted. To the extent time permits, members of the public may present oral statements to the PECSENC. The public may submit written statements at any time before or after the meeting. However, to facilitate distribution of public presentation materials to PECSENC members, the PECSENC suggests that public presentation materials or comments be forwarded before the meeting to the address listed below: Ms. Lee Ann Carpenter, OSIES/EA/BXA MS: 3876, U.S. Department of Commerce, 14th St. and Constitution Ave., NW., Washington, D.C. 20230.

A Notice of Determination to close meetings, or portions of meetings, of the Subcommittee to the public on the basis of 5 U.S.C. 522(c)(1) was approved October 25, 1999, in accordance with the Federal Advisory Committee Act. A copy of the Notice of Determination is available for public inspection and coying in the Central Reference and Records Inspection Facility, Room 6020, U.S. Department of Commerce, Washington, D.C. For more information, contact Ms. Lee Ann Carpenter on (202) 482-2583.

Dated: April 25, 2000.
Iain S. Baird,
Deputy Assistant Secretary for Export Administration.

[FR Doc. 00-10901 Filed 5-1-00; 8:45 am]

BILLING CODE 3510-JT-M